DEPARTMENT OF THE INTERIOR

National Park Service

National Register of Historic Places; Notification of Pending Nominations and Related Actions

Nominations for the following properties being considered for listing or related actions in the National Register were received by the National Park Service before July 3, 2010. Pursuant to section 60.13 of 36 CFR part 60, written comments are being accepted concerning the significance of the nominated properties under the National Register criteria for evaluation. Comments may be forwarded by United States Postal Service, to the National Register of Historic Places, National Park Service, 1849 C St. NW., 2280, Washington, DC 20240; by all other carriers, National Register of Historic Places, National Park Service, 1201 Eye St., NW., 8th floor, Washington, DC 20005; or by fax, 202-371-6447. Written or faxed comments should be submitted by August 12, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

Saguache County

Sargents Water Tank, Denver and Rio Grande Railroad, Western Line, (Railroads in Colorado, 1858-1948 MPS) 45 Front St, Sargents, 10000537

GEORGIA

Peach County

Fort Valley Downtown and Railroad Historic District, (Georgia County Courthouses TR) Centered around SR 49, Main St, Church St, and the railroad line, Fort Valley, 10000549

IDAHO

Ada County

Reclamation Service Boise Project Office, 214 Broadway Ave, Boise, 10000546

KANSAS

Sedgwick County

North Market Street Apartments Historic District, (Residential Resources of Wichita, Sedgwick County, Kansas 1870-1957) 718, 722, and 730 N Market St, Wichita, 10000548

MASSACHUSETTS

Essex County

Wood Worsted Mill, S Union and Merrimack St, Lawrence, 10000539

MISSOURI

St. Louis County

Affton High School, 8520 Mackenzie Rd, Affton, 10000551

St. Louis Independent City

Chippewa Trust Company Building, (South St. Louis Historic Working and Middle Class Streetcar Suburbs MPS) 3801-05 S Broadway, St. Louis, 10000538

Father Dunne's New Boys' Home and Protectorate, 3010 Washington Ave, St. Louis, 10000550

MONTANA

Fergus County

Reed's Fort Post Office, .1 mi SW from the junction of Brassey and 6th Ave on Casino Creek Dr, Lewistown, 10000545

Granite County

Garnet Historic District, 11 mi N of jct US 90 and Bear Gulch Rd, Bureau of Land Management, Garnet, 10000547

VIRGINIA

Fairfax County

Floris Historic District, Bounded by Centreville Rd, W Ox Rd, Monroe St, and Frying Pan Branch, Herndon, 10000543

Fauquier County

Calverton Historic District, Area including parts of Bristersburg and Catlett Rds, Calverton, 10000542

Portsmouth Independent City

Portsmouth Community Library, 904 Elm St, Portsmouth, 10000544

WISCONSIN

Dane County

Chase Grain Elevator, 123 Railroad St, Sun Prairie, 10000540

[FR Doc. 2010-18428 Filed 7-27-10; 8:45 am]

BILLING CODE 4312-51-P